DEPARTMENT OF TRANSPORTATION

Federal Aviation Administration

14 CFR Part 39

[Docket No. FAA-2015-3981; Directorate Identifier 2015-NM-126-AD; Amendment 39-18280; AD 2015-20-02]

RIN 2120-AA64

Airworthiness Directives; Airbus Airplanes

AGENCY: Federal Aviation Administration (FAA), Department of Transportation (DOT).

ACTION: Final rule; request for comments.

SUMMARY: We are superseding Airworthiness Directive (AD) 2013-02-10 for all Airbus Model A330-200 Freighter series airplanes; Model A330-200 and -300 series airplanes; and Model A340-200 and -300 series airplanes. AD 2013-02-10 required an inspection of the rods to determine the manufacturer; and for affected parts, an inspection for any cracking of the rods, and related investigative and corrective actions if necessary. This AD revises the affected airplanes of a certain paragraph of AD 2013-02-10 due to the discovery of an error. We are issuing this AD to detect and correct cracking of the rods, which could result in rupture of rods that attach the belly fairing to the airframe, leading to separation of the belly fairing from the airframe, and consequent damage to airplane structure and airplane systems.

DATES: This AD becomes effective October 16, 2015.

The Director of the Federal Register approved the incorporation by reference of certain publications listed in this AD as of March 8, 2013 (78 FR 7257, February 1, 2013).

We must receive comments on this AD by November 16, 2015.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this AD, contact Airbus SAS, Airworthiness Office—EAL, 1 Rond Point Maurice Bellonte, 31707 Blagnac Cedex, France; telephone: +33 5 61 93 36 96; fax: +33 5 61 93 45 80; email: airworthiness.A330-A340@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-3981.

Examining the AD Docket

You may examine the AD docket on the Internet at http://www.regulations.gov by searching for and locating Docket No. FAA-2015-3981; or in person at the Docket Operations office between 9 a.m. and 5 p.m., Monday through Friday, except Federal holidays. The AD docket contains this AD, the regulatory evaluation, any comments received, and other information. The street address for the Docket Operations office (telephone: 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone: 425-227-1138; fax: 425-227-1149.

SUPPLEMENTARY INFORMATION:

Discussion

On January 16, 2013, we issued AD 2013-02-10, Amendment 39-17331 (78 FR 7257, February 1, 2013), which applied to all Airbus Model A330-200 Freighter series airplanes; Model A330-200 and -300 series airplanes; and Model A340-200 and -300 series airplanes. AD 2013-02-10 was prompted by a report of a manufacturing defect in certain rods installed in the belly fairing, which could lead to cracks at the crimped end of the rod. AD 2013-02-10 required an inspection of the rods to determine the manufacturer; and for affected parts, an inspection for any cracking of the rods, and related investigative and corrective actions if necessary. We issued AD 2013-02-10 to detect and correct cracking of the rods, which could result in rupture of rods that attach the belly fairing to the airframe, leading to separation of the belly fairing from the airframe, and consequent damage to airplane structure and airplane systems.

Since we issued AD 2013-02-10, Amendment 39-17331 (78 FR 7257, February 1, 2013), we have discovered an inadvertent error in the identification of the affected airplane models in the inspection requirements of AD 2013-02-10. Paragraph (g) of AD 2013-02-10 referred to Model A340-211, -212, -213, -311, -312, and -313 airplanes, but did not limit the affected airplanes to certain manufacturer serial numbers.

The European Aviation Safety Agency (EASA), which is the Technical Agent for the Member States of the European Union, has issued EASA AD 2012-0005, dated January 10, 2012 (referred to after this as the Mandatory Continuing Airworthiness Information, or “the MCAI”), to correct an unsafe condition for Airbus Model A330-200 Freighter series airplanes; Model A330-200 and -300 series airplanes; and Model A340-200 and -300 series airplanes. The MCAI states:

A rod manufacturing process defect has been identified at the supplier, Technical Airborne Components Industries (TAC), which could lead to cracks at the crimped end of the rod.

A design review of all affected rods has demonstrated that rupture of rods which attach the belly fairing can lead to separation of the belly fairing from the airframe, which would constitute an unsafe condition.

For the reasons described above, this AD requires detailed visual inspections of the 21 affected rods installed in the belly fairing for manufacturer identification, and if TAC is identified as manufacturer, or if the manufacturer cannot be identified, to further inspect the rods to find any crack, using a high frequency eddy current (HFEC) method and, depending on findings, accomplishment of the applicable corrective actions, to ensure structural integrity of the belly fairing rods. This AD also prohibits installation of an affected TAC rod as replacement part in the belly fairing to all aeroplanes.

You may examine the MCAI on the Internet at http://www.regulations.gov by searching for and locating Docket No. FAA-2015-3981.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of these same type designs.

Related Service Information Under 1 CFR Part 51

Airbus has issued Service Bulletins A330-53-3186 and A340-53-4185, both Revision 01, both dated April 7, 2011. The service information describes procedures for an inspection of the rods to determine the manufacturer; and for affected parts, an inspection for any cracking of the rods, and related investigative and corrective actions if necessary. This service information is reasonably available because the interested parties have access to it through their normal course of business or by the means identified in the ADDRESSES section of this AD.

FAA's Determination of the Effective Date

We are superseding AD 2013-02-10, Amendment 39-17331 (78 FR 7257, February 1, 2013), to correct an error in the identification of the affected airplane models in the inspection requirements of paragraph (g) of AD 2013-02-10. We have made no other changes to the requirements published in AD 2013-02-10. Also, we have determined that this change is relieving to certain operators of the Airbus Model A340-211, -212, -213, -311, -312, and -313 airplanes and imposes no additional burden on any operator. Therefore, we determined that notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2015-3981; Directorate Identifier 2015-NM-126-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 54 airplanes of U.S. registry.

The actions required by AD 2013-02-10, Amendment 39-17331 (78 FR 7257, February 1, 2013), and retained in this AD take about 13 work-hours per product, at an average labor rate of $85 per work-hour. Based on these figures, the estimated cost of the actions that were required by AD 2013-02-10 is $59,670, or $1,105 per product.

In addition, we estimate that any necessary follow-on actions will take about 28 work-hours and require parts costing $0, for a cost of $2,380 per product. Where the service information lists required parts costs that are covered under warranty, we have assumed that there will be no charge for these parts. As we do not control warranty coverage for affected parties, some parties may incur costs higher than estimated here. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-02-10, Amendment 39-17331 (78 FR 7257, February 1, 2013), and adding the following new AD:

2015-20-02 Airbus: Amendment 39-18280. Docket No. FAA-2015-3981; Directorate Identifier 2015-NM-126-AD.

(a) Effective Date

This AD becomes effective October 16, 2015.

(b) Affected ADs

This AD replaces AD 2013-02-10, Amendment 39-17331 (78 FR 7257, February 1, 2013).

(c) Applicability

This AD applies to all airplanes identified in paragraphs (c)(1) and (c)(2) of this AD, certificated in any category.

(1) Airbus Model A330-201, -202, -203, -223, -223F, -243, -243F, -301, -302, -303, -321, -322, -323, -341, -342, and -343 airplanes.

(2) Airbus Model A340-211, -212, -213, -311, -312, and -313 airplanes.

(d) Subject

Air Transport Association (ATA) of America Code 53, Fuselage.

(e) Reason

This AD was prompted by a report of a manufacturing defect in certain rods installed in the belly fairing, which could lead to cracks at the crimped end of the rod, and by the discovery of an error in the affected airplanes of a certain paragraph of AD 2013-02-10. We are issuing this AD to detect and correct cracking of the rods, which could result in rupture of rods that attach the belly fairing to the airframe, leading to separation of the belly fairing from the airframe, and consequent damage to airplane structure and airplane systems.

(f) Compliance

Comply with this AD within the compliance times specified, unless already done.

(g) Retained Inspections and Applicable Related Investigative and Corrective Actions With Revised Affected Airplanes

This paragraph restates the requirements of paragraph (g) of AD 2013-02-10, Amendment 39-17331 (78 FR 7257, February 1, 2013), with revised affected airplanes. For Model A330-201, -202, -203, -223, -223F, -243, -243F, -301, -302, -303, -321, -322, -323, -341, -342, and -343 airplanes; and Model A340-211, -212, -213, -311, -312, and -313 airplanes, having manufacturer serial numbers (MSN) 0002 to 1113 inclusive, except MSNs 0996, 1039, 1054, 1059, 1105, 1107, 1108, and 1112: Within 72 months after March 8, 2013 (the effective date of AD 2013-02-10), accomplish the actions in paragraphs (g)(1) and (g)(2) of this AD, in accordance with the Accomplishment Instructions of Airbus Service Bulletin A330-53-3186, Revision 01, dated April 7, 2011 (for Model A330 airplanes); or A340-53-4185, Revision 01, dated April 7, 2011 (for Model A340 airplanes).

(1) Do a detailed inspection of the 21 rods of the belly fairing identified in Airbus Service Bulletin A330-53-3186, Revision 01, dated April 7, 2011 (for Model A330 airplanes); or A340-53-4185, Revision 01, dated April 7, 2011 (for Model A340 airplanes); for rod manufacturer identification. A review of airplane maintenance records is acceptable in lieu of this inspection if the manufacturer of the rods can be conclusively determined from that review.

(2) If the rod manufacturer is found to be Technical Airborne Components Industries (TAC), or if the manufacturer cannot be identified, do a high frequency eddy current (HFEC) inspection for cracking of the crimped end of the rod body and, if any crack is found, before further flight, do all applicable related investigative and corrective actions.

(h) Retained Parts Installation Limitations With No Changes

This paragraph restates the requirements of paragraph (h) of AD 2013-02-10, Amendment 39-17331 (78 FR 7257, February 1, 2013), with no changes. As of March 8, 2013 (the effective date of AD 2013-02-10), no person may install any affected TAC rod, as identified in Airbus Service Bulletin A330-53-3186, Revision 01, dated April 7, 2011; or A340-53-4185, Revision 01, dated April 7, 2011; as applicable; on any airplane unless the rod has passed (found to have no cracking) the inspection as required by paragraph (g)(2) of this AD.

(i) Retained Credit for Previous Actions With No Changes

This paragraph restates the credit provided by paragraph (i) of AD 2013-02-10, Amendment 39-17331 (78 FR 7257, February 1, 2013), with no changes. This paragraph provides credit for the inspections and corrective actions required by paragraph (g) of this AD, if those actions were performed before March 8, 2013 (the effective date of AD 2013-02-10), using Airbus Service Bulletin A330-53-3186, dated January 17, 2011 (for Model A330 airplanes); or A340-53-4185, dated January 17, 2011 (for Model A340 airplanes); which are not incorporated by reference in this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone: 425-227-1138; fax: 425-227-1149. Information may be emailed to: 9-ANM-116-AMOC-REQUESTS@faa.gov. Before using any approved AMOC, notify your appropriate principal inspector, or lacking a principal inspector, the manager of the local flight standards district office/certificate holding district office. The AMOC approval letter must specifically reference this AD. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(k) Related Information

(1) Refer to Mandatory Continuing Airworthiness Information (MCAI) EASA AD 2012-0005, dated January 10, 2012, for related information. This MCAI may be found in the AD docket on the Internet at http://www.regulations.gov by searching for and locating Docket No. FAA-2015-3981.

(2) Service information identified in this AD that is not incorporated by reference is available at the addresses specified in paragraphs (l)(4) and (l)(5) of this AD.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on March 8, 2013 (78 FR 7257, February 1, 2013).

(i) Airbus Service Bulletin A330-53-3186, Revision 01, dated April 7, 2011.

(ii) Airbus Service Bulletin A340-53-4185, Revision 01, dated April 7, 2011.

(4) For service information identified in this AD, contact Airbus SAS, Airworthiness Office—EAL, 1 Rond Point Maurice Bellonte, 31707 Blagnac Cedex, France; telephone: +33 5 61 93 36 96; fax: +33 5 61 93 45 80; email: airworthiness.A330-A340@airbus.com; Internet http://www.airbus.com.

(5) You may view this service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on September 17, 2015.
John P. Piccola, Jr.,
Acting Manager, Transport Airplane Directorate, Aircraft Certification Service.

[FR Doc. 2015-24672 Filed 9-30-15; 8:45 am]

BILLING CODE 4910-13-P